DEPARTMENT OF ENERGY

Federal Energy Regulatory Commission

[Docket Nos. EC06-105-000, et al.]

Coastal Carolina Clean Power LLC, et al.; Electric Rate and Corporate Filings

April 12, 2006.

The following filings have been made with the Commission. The filings are listed in ascending order within each docket classification.

1. Coastal Carolina Clean Power LLC; Riverstone Holdings LLC; TC Group, L.L.C.; United Cogen Fuel LLC

[Docket No. EC06-105-000]

Take notice that on April 4, 2006, Coastal Carolina Clean Power LLC, Riverstone Holdings LLC, TC Group, L.L.C. and United Cogen Fuel LLC submitted an application pursuant to section 203 of the Federal Power Act for authorization of a disposition of jurisdictional facilities, whereby United Cogen Fuel LLC proposes to transfer to Coastal Carolina Clean Power LLC an undivided 100 percent in the 30 megawatt biomass fueled facility owned by United Cogen Fuel LLC, located in Kenansville, North Carolina.

Applicatants state that a copy of the application was served upon the North Carolina Utilities Commission.

Comment Date: 5 p.m. Eastern Time on April 25, 2006.

2. Midwest Independent Transmission System Operator Inc.

[Docket Nos. ER04-691-071, EL04-104-065]

Take notice that on March 27, 2006, the Midwest Independent Transmission System Operator, Inc.(Midwest ISO), submitted an information filing with regards to the methodology for the refund of overcollected marginal loss surpluses under the Midwest ISO's Open Access Transmission and Energy Markets Tariff.

Comment Date: 5 p.m. Eastern Time on April 17, 2006.

3. Montana Alberta Tie, Ltd.

[Docket No. ER05-764-002]

Take notice that on March 31, 2006, Montana Alberta tie, Ltd., pursuant to section 205 of the Federal Power Act and part 35 of the Commission's regulations submits an amendment to its April 1, 2006 application.

Comment Date: 5 p.m. Eastern Time on April 21, 2006.

4. ISO New England, Inc.

[Docket No. ER06-656-001]

Take notice that on April 10, 2006, ISO New England, Inc. filed its response to the Commission's April 5, 2006 request for additional information.

Comment Date: 5 p.m. Eastern Time on April 17, 2006.

5. Conectiv Energy Supply, Inc.

[Docket No. ER06-839-000]

Take notice that on March 22, 2006, Conective Energy Supply, Inc. pursuant to section 205 of the Federal Power Act and part 35 of the Commission's Rules and Regulations hereby submit a request for authorization to make wholesale power sales to its affiliate, Delmarva Power & Light Company.

Comment Date: 5 p.m. Eastern Time on April 17, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-5816 Filed 4-18-06; 8:45 am]

BILLING CODE 6717-01-P